DEPARTMENT OF ENERGY

Federal Energy Regulatory Commission

[Docket No. RP01-278-000]

Texas Gas Transmission Corporation; Notice of Proposed Changes in FERC Gas Tariff

March 29, 2001.

Take notice that on March 22, 2001, Texas Gas Transmission Corporation (Texas Gas) tendered for filing as part of its FERC Gas Tariff, First Revised Volume No. 1, the following tariff sheets to become effective April 1, 2001:

Second Revised Sheet No. 180

Second Revised Sheet No. 181

Second Revised Sheet No. 182

Second Revised Sheet No. 183

Sheet No. 185

Also attached is a pro forma tariff sheet, Pro Forma Second Revised Sheet No. 184, which is being filed for informational purposes only.

Texas Gas states that the filing serves two purposes. First, it makes changes to Texas Gas' tariff to prospectively eliminate gaming based on price arbitrage from the imbalance resolution provisions of its tariff. These tariff changes are found in subsections (b) through (g) and (i) through (l) of Section 17.3 Resolution of Monthly Transportation Imbalance of the General Terms and Conditions (GTC) of Texas Gas' tariff as shown on proposed Second Revised Sheet Nos. 180, 181, 182, and 183. Second, this filing puts parties on notice of the need to make further changes to Texas Gas' tariff to address the historical imbalance under-recovery that has resulted from the current imbalance tariff resolution provisions. This notice is provided in the form of a pro forma tariff sheet, Pro Forma Second Revised Sheet No. 184, outlining potential tariff changes in subsections (n) and (p) of GTC Section 17.3.

Texas Gas states that copies of the revised tariff sheets are being mailed to Texas Gas' jurisdictional customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8258 Filed 4-3-01; 8:45 am]

BILLING CODE 6717-01-M